DEPARTMENT OF LABOR

Employment and Training Administration

[TA-W-39,565A]

Thomaston Mills, Inc., Finishing Division, Thomaston, GA; Amended Certification Regarding Eligibility To Apply for Worker Adjustment Assistance

In accordance with section 223 of the Trade Act of 1974 (19 U.S.C. 2273) the Department of Labor issued a Notice of Determination Regarding Eligibility to Apply for Worker Adjustment Assistance on November 15, 2001, applicable to workers of Thomaston Mills, Inc., Finishing Division, Finishing Consumer Department, Thomaston, Georgia engaged in the production of sheets, pillowcases and comforters and related accessories. All workers of Thomaston Mills, Inc., Finishing Division, Finishing Apparel Department, Thomaston, Georgia were denied eligibility to apply for adjustment assistance. The notice was published in the Federal Register on November 30, 2001 (66 FR 59817).

At the request of the company, the Department reviewed the certification for workers of the subject firm. Findings show that the Department limited its certification coverage to workers of the subject firms's Finishing Consumer Department in the Finishing Division engaged in the production of sheets, pillowcases and comforters and related accessories. The workers employed in the Finishing Apparel Department were denied eligibility because they did not meet the group eligibility requirements of the Trade Act. The company provides new information indicating that the workers are not separately identifiable within the Finishing Division.

It is the intent of the Department to include “all workers” of Thomaston Mills, Inc., Finishing Division, Thomaston, Georgia adversely affected by increased imports.

Accordingly, the Department is amending this certification determination to include all workers in the Finishing Division.

The amended notice applicable to TA-W-39,565A is hereby issued as follows:

All workers of Thomaston Mills, Inc., Finishing Division, Thomaston, Georgia who became totally or partially separated from employment on after June 20, 2000, through November 15, 2003, are eligible to apply for adjustment assistance under Section 223 of the Trade Act of 1974.

Signed at Washington, DC this 6th day of December, 2001.
Linda G. Poole,
Certifying Officer, Division of Trade Adjustment Assistance.

[FR Doc. 01-31134 Filed 12-17-01; 8:45 am]

BILLING CODE 4510-30-M